DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | #Depth in feet above ground *Elevation in feet (NGVD) +Elevation in feet (GUVD 03) Modified
Guam
Docket No.: FEMA-D-7674
Guam |  | Agana River | At downstream side of Marine Drive (Route 1) | +7
|  |  | Approximately 350 feet upstream of O'Brien Drive | +13
# Depth in feet above ground.
*National Geodetic Vertical Datum.
+Guam Vertical Datum 2003.
ADDRESSES
Maps are available for inspection at the Guam Department of Public Works, Government of Guam, 542 North Marine Drive, Building A, Tamuning, Guam.

Flooding source(s) | Location of referenced elevation | * Elevation in feet (NGVD) + Elevation in feet (NAVD) # Depth in feet above ground modified | Communities affected
Camden County, New Jersey (All Jurisdictions)
Docket No.: FEMA-D-7688
Barton Run Tributary 3 | At Kresson Road (County Route 671) | +84 | Township of Voorhees.
| Approximately 1,040 feet above Sunset Avenue | +134 |
Cooper River | Approximately 180 feet upstream of Kaighns Avenue (County Route 607) | +10 | City of Camden, Borough of Collingswood, Township of Cherry Hill, Borough of Gibbsboro, Township of Haddon, Borough of Haddonfield, Borough of Lawnside, Borough of Lindenwold, Township of Pennsauken, Borough of Somerdale, Borough of Tavistock, Township of Voorhees.
| Approximately 155 feet upstream of Gibbsboro Road | +73 |
Millard Creek | At the confluence with Cooper River | +64 | Borough of Gibbsboro.
| Approximately 500 feet upstream of Gibbsboro Road (County Route 686) | +76 |
Newton Creek | Approximately 10 feet downstream of White Horse Pike | +10 | Borough of Audubon, Borough of Collingswood, Township of Haddon, Borough of Haddonfield, Borough of Oaklyn.
| Approximately 130 feet upstream of West End Avenue | +47 |
Nicholson Branch | At the confluence with Millard Creek | +64 | Borough of Gibbsboro, Township of Voorhees.
| Approximately 590 feet upstream of North Lake Drive | +100 |
North Branch Cooper River | At the confluence with Cooper River | +14 | Township of Cherry Hill, Township of Voorhees.
| Approximately 0.48 mile upstream of Kresson Road (County Route 671) | +86 |
South Branch Newton Creek | Approximately 60 feet upstream of abandoned railroad | +10 | Borough of Audubon, Township of Haddon, City of Gloucester, Township of Mount Ephraim.
| Approximately 500 feet upstream of State Route 168 | +11 |
Tributary No. 1 to Cooper River | At the confluence with Cooper River | +38 | Township of Cherry Hill.
| At downstream side of Burnt Mill Road | +40 |
Tributary No. 2 to Cooper River | At the confluence with Cooper River | +38 | Township of Cherry Hill.
| At downstream side of Evesham Road | +60 |
Tributary No. 3 to Cooper River | At the confluence with Cooper River | +42 | Borough of Lawnside, Borough of Somerdale.
| Approximately 500 feet upstream of Evesham Road | +55 |
Tributary No. 4 to Cooper River | At the confluence with Cooper River | +52 | Township of Voorhees.
| At downstream side of Rural Avenue | +52 |
Signey Run | Approximately 1,100 feet upstream confluence with North Branch Big Timber Creek | +16 | Township of Gloucester, Borough of Hi-Nella, Borough of Stratford.
| At upstream side of Warwick Road | +42 |
Tributary No. 1 to North Branch Cooper River | At the confluence with North Branch Cooper River | +76 | Township of Voorhees.
| At downstream side of Kresson Road | +100 |
Tributary No. 2 to North Branch Cooper River | At the confluence with North Branch Cooper River | +82 | Township of Voorhees.
| Approximately 950 feet upstream of confluence with North Branch Cooper River | +82 |
Peter Brook | At the confluence with Newton Creek | +9 | Borough of Audubon Park, Borough of Oaklyn.
| At approximately 0.92 mile upstream Newton Creek | +9 |
North Branch Big Timber | Approximately 100 feet upstream of East Atlantic Avenue (County Route 727) | +41 | Borough of Clementon.
| At approximately 1,630 feet upstream of East Atlantic Avenue (County Route 727) | +41 |
# Depth in feet above ground.
* National Geodetic Vertical Datum.
+ North American Vertical Datum.
ADDRESSES
Borough of Audubon
Maps are available for inspection at the Borough of Audubon, 606 West Nicholson Road, Audubon, New Jersey.
Borough of Audubon Park
Maps are available for inspection at the Borough of Audubon Park, 20 Road C, Audubon Park, New Jersey.
City of Camden
Maps are available for inspection at the City of Camden Planning Department, 520 Market Street, Room 422, Camden, New Jersey.
Township of Cherry Hill
Maps are available for inspection at the Cherry Hill Township Building, 820 Mercer Street, Cherry Hill, New Jersey.
Borough of Clementon
Maps are available for inspection at the Borough of Clementon, 101Gibbsboro Road, Clementon, New Jersey.
Borough of Collingswood
Maps are available for inspection at the Borough of Collingswood, 678 Haddon Avenue, Collingswood, New Jersey.
Borough of Gibbsboro
Maps are available for inspection at the Gibbsboro Borough Hall, 49 Kirkwood Drive, Gibbsboro, New Jersey.
City of Gloucester
Maps are available for inspection at the City of Gloucester Municipal Building, 313 Monmouth Street, Gloucester, New Jersey.
Township of Gloucester
Maps are available for inspection at the Township of Gloucester Municipal Building, 1261 Chews Landing Road, Blackwood, New Jersey.
Township of Haddon
Maps are available for inspection at the Township of Haddon Municipal Building, 135 Haddon Avenue, Westmont, New Jersey.
Borough of Haddonfield
Maps are available for inspection at the Borough of Haddonfield, 242 Kings Highway East, Haddonfield, New Jersey.
Borough of Hi-Nella
Maps are available for inspection at the Hi-Nella Borough Hall, 100 Wykagl Road, Hi-Nella, New Jersey.
Borough of Lawnside
Maps are available for inspection at the Borough of Lawnside Zoning Department, 4 North Douglas Avenue, Lawnside, New Jersey.
Borough of Lindenwold
Maps are available for inspection at the Borough of Lindenwold Construction Office, 2001 Egg Harbor Road, Lindenwold, New Jersey.
Borough of Mount Ephraim
Maps are available for inspection at the Borough of Mt. Ephraim Tax Office, 121 South Black Horse Pike, Mount Ephraim, New Jersey.
Borough of Oaklyn
Maps are available for inspection at the Borough of Oaklyn, 500 White Horse Pike, Oaklyn, New Jersey 08107.
Township of Pennsauken
Maps are available for inspection at the Pennsauken Municipal Building, Administration Office, 5605 North Crescent Boulevard, Pennsauken, New Jersey.
Borough of Somerdale
Maps are available for inspection at the Somerdale Borough Hall, 105 Kennedy Boulevard, Somerdale, New Jersey.
Borough of Stratford
Maps are available for inspection at the Borough of Stratford, 307 Union Avenue, Stratford, New Jersey.
Borough of Tavistock
Maps are available for inspection at the Borough of Tavistock, Remington and Vernick Engineering, 232 Kings Highway, Haddonfield, New Jersey.
Township of Voorhees
Maps are available for inspection at the Township of Voorhees, Municipal Clerk's Office, 620 Berlin Road, Voorhees, New Jersey.
Passaic County, New Jersey (All Jurisdictions)
Docket No.: FEMA-D-7688
Molly Ann Brook | From the downstream side of Sherwood Avenue | +124 | Borough of Haledon, Borough of Prospect Park, City of Paterson.
| Approximately 825 feet upstream of the weir | +185 |
# Depth in feet above ground.
* National Geodetic Vertical Datum.
+ North American Vertical Datum.
ADDRESSES
Borough of Haledon
Maps are available for inspection at the Haledon Borough Hall, 510 Belmont Avenue, Haledon, New Jersey.
Borough of Prospect Park
Maps are available for inspection at the Prospect Park Borough Hall, 106 Brown Avenue, Prospect Park, New Jersey.
City of Paterson
Maps are available for inspection at the Paterson City Hall, 155 Market Street, Passaic, New Jersey.
Somerset County, New Jersey (All Jurisdictions)
Docket Nos.: FEMA-D-7688 and FEMA-D-7660
Chambers Brook #1 | At the confluence with North Branch Raritan River | +80 | Township of Bedminster.
| Approximately 0.5 mile above the confluence with North Branch Raritan River | +80
Chambers Brook #2 | At the confluence with North Branch Raritan River | +74 | Township of Branchburg.
| Approximately 0.4 mile above the confluence with North Branch Raritan River | +74
Cory's Brook | At the confluence with Passaic River | +213 | Township of Warren.
| Approximately 1,800 feet upstream of Powder Horn Road | +405
Cuckles Brook | At the confluence with Raritan River | +39 | Township of Bridgewater.
| Approximately 0.92 mile upstream of confluence with Raritan River | +42
Dead River | At the confluence with Passaic River | +213 | Townships of Bernards and Warren.
| Approximately 300 feet upstream of Allen Road | +269
Green Brook | At the confluence with Raritan River | +33 | Borough of Bound Brook.
| Approximately 200 feet downstream Conrail | +33
Harrison Brook | At the confluence of Dead River | +220 | Township of Bernards.
| Approximately 250 feet upstream of South Award Avenue | +327
Branch 1 | At the confluence with Harrison Brook at Lurlin Drive | +220 +231 | Township of Bernards.
Branch 2 | At the confluence with Harrison Brook | +238 | Township of Bernards.
| Approximately 2,875 feet upstream of Quincy Road | +272
Holland Brook | At the confluence of South Branch Raritan River | +61 | Township of Branchburg.
| Approximately 1,000 feet upstream of Old York Road | +90
Indian Grave Brook | At the confluence with Passaic River | +304 | Township of Bernards.
| Approximately 100 feet downstream of County boundary | +610 | Borough of Bernardsville.
Middle Brook (to Raritan River) | At the confluence with Raritan River | +38 | Township of Bridgewater. Borough of Bound Brook.
| Approximately 100 feet upstream of State Route 22 | +74
Millstone River | At the confluence with Raritan River | +41 | Township of Franklin
| At the confluence of Royce Brook | +41 | Borough of Manville
Moggy Brook | At the confluence with North Branch | +125 | Borough of Far Hills.
| Approximately 0.55 mile upstream of the confluence with North Branch Raritan River | +156
Neshanic River | At the confluence with South Branch Raritan River | +82 | Township of Hillsborough.
| Approximately 1.73 miles upstream of Montgomery Road | +102
North Branch Raritan River | At the confluence with Raritan River | +61 | Boroughs of Bernardsville, Far Hills, Peapack and River Gladstone, Townships of Branchburg, Bedminister and Bridgewater.
| At the Somerset and Morris County boundary | +294
North Branch Raritan River Tributary C | At the confluence with North Branch Raritan River | +197 | Borough of Bernardsville.
| Approximately 450 feet upstream of confluence with North Branch Raritan River | +210
Peters Brook | At the confluence with Raritan River | +48 | Township Bridgewater.
| Approximately 900 feet upstream of North Bridge Street | +49
Pike Run | At the downstream side of Township Line Road | +71 | Townships of Montgomery and Hillsborough.
| Approximately 1.1 miles upstream of Pleasant View Road | +114
Pike Run Tributary | At the confluence with Pike Run | +86 | Township of Hillsborough.
| Approximately 500 feet upstream of the confluence with Pike Run | +86
Raritan River | At the Somerset and Middlesex County boundary | +18 | Townships of Branchburg, Bridgewater, and Franklin, Boroughs of Bound Brook, Manville, Raritan, Somerville, and South Bound Brook.
| At the confluence with North Branch and South Branch Raritan River | +61
Ross Brook | At the confluence with Peter's Brook | +48 | Township of Bridgewater, Borough of Somerville.
| Approximately 45 feet downstream of Spring Street | +48
Royce Brook | At the confluence with Millstone River | +41 | Borough of Manville.
| Approximately 0.4 mile upstream of confluence with Millstone River | +41
Royce Brook | Approximately 6,500 feet upstream of the confluence with Millstone River | +41 | Township of Hillsborough, Borough of Manville.
| Approximately 1,000 feet upstream of East Mountain Road | +136
Tributary A | At the confluence with Royce Brook | +69 | Township of Hillsborough.
| Approximately 200 feet upstream of the confluence with Royce Brook | +70
Tributary B | At the confluence with Royce Brook | +50 | Township of Hillsborough.
| Approximately 200 feet upstream of the confluence with Royce Brook | +50
Tributary C | At the confluence with Royce Brook | +43 | Township of Hillsborough.
| Approximately 500 feet upstream of the confluence with Royce Brook | +45
South Branch Raritan River | At the confluence with Raritan River | +61 | Townships of Branchburg, Bridgewater and Hillsborough.
| At the Somerset and Hunterdon county boundary | +95
Tributary K | At the confluence with Indian Grave Brook | +455 | Borough of Bernardsville.
| Approximately 1,670 feet upstream of Washington Corner Road | +564
# Depth in feet above ground.
* National Geodetic Vertical Datum.
+North American Vertical Datum.
ADDRESSES
Borough of Bedminster
Maps available for inspection at the Bedminster Township Municipal Building, 130 Hillside Avenue, Bedminster, New Jersey.
Township of Bernards
Maps available for inspection at the Bernards Township Engineering Services Building, 277 South Maple Avenue, Basking Ridge, New Jersey.
Borough of Bernardsville
Maps available for inspection at the Bernardsville Municipal Building, 166 Mine Brook Road, Bernardsville, New Jersey.
Borough of Bound Brook
Maps available for inspection at the Bound Brook Borough Municipal Building, 230 Hamilton Street, Bound Brook, New Jersey.
Township of Branchburg
Maps available for inspection at the Branchburg Township Engineering Department, 1077 Route 202 North, Branchburg, New Jersey.
Township of Bridgewater
Maps available for inspection at the Bridgewater Township Code Enforcement Office, 700 Garretson Road, Bridgewater, New Jersey.
Borough of Far Hills
Maps available for inspection at the Far Hills Borough Municipal Building, 6 Prospect Street, Far Hills, New Jersey.
Township of Franklin
Maps available for inspection at the Franklin Township Engineering Department, 475 De Mott Lane, Somerset, New Jersey.
Township of Hillsborough
Maps available for inspection at the Hillsborough Township Municipal Complex, 379 South Branch Road, Hillsborough, New Jersey.
Borough of Manville
Maps available for inspection at the Manville Borough Municipal Building, 325 North Main Street, Manville, New Jersey.
Township of Montgomery
Maps available for inspection at the Montgomery Township Municipal Building, 2261 Van Horne Road, Route 206, Belle Mead, New Jersey.
Borough of Peapack and Gladstone
Maps available for inspection at the Peapack and Gladstone Borough Municipal Building, 1 School Street, Peapack, New Jersey.
Borough of Raritan
Maps available for inspection at the Raritan Borough Municipal Building, 22 First Street, Raritan, New Jersey.
Borough of Somerville
Maps available for inspection at the Somerville Borough Hall, 25 West End Avenue, Somerville, New Jersey.
Borough of South Bound Brook
Maps available for inspection at the Borough of South Bound Brook Municipal Building, 12 Main Street, South Bound Brook, New Jersey.
Township of Warren
Maps available for inspection at the Warren Township Engineering Department, 48 Mountain Boulevard, Warren, New Jersey.
Clinton County, New York (All Jurisdictions)
Docket No.: FEMA-D-7688
AuSable River | Approximately 2.2 miles upstream of Lower Road Bridge | +491 | Town of Ausable, Town of Black Brook.
| At the confluence with West Branch AuSable River | +550
Fern Lake Salmon River | The entire shoreline | +1,225 | Town of Black Brook, Town of Peru.
| Approximately 2,750 feet upstream of Fox Farm Road | +306
| Approximately 1.2 miles upstream of Conners Road | +585
Saranac River | Approximately 5,100 feet upstream of Ore Bed Road | +1,090 | Town of Black Brook.
| Approximately 170 feet upstream of Union Falls Road | +1,414
West Branch AuSable River | At the confluence with AuSable River | +550 | Town of Black Brook.
| Approximately 170 feet upstream of the confluence with AuSable River | +551
# Depth in feet above ground. | * National Geodetic Vertical Datum.
+North American Vertical Datum.
ADDRESSES
Town of Ausable
Maps are available for inspection at the Ausable Town Office, 111 Ausable Street, Keeseville, New York.
Town of Black Brook
Maps are available for inspection at the Black Brook Town Office, 18 North Main Street, Ausable Forks, New York.
Town of Peru
Maps are available for inspection at the Peru Town Office, 3036 Main Street, Peru, New York.
Westchester County, New York (All Jurisdictions)
Docket No.: FEMA-D-7686
Barney Brook | Approximately 10 feet downstream of Buckhout Street | +26 | Village of Irvington.
| Approximately 0.19 mile upstream of Fieldpoint Drive | +352
Barney Brook Tributary | At the confluence with Barney Brook | +98 | Village of Irvington.
| Approximately 0.40 mile upstream of Easy Clinton Avenue | +268
Beaver Swamp Brook | Upstream side of East Boston Post Road | +21 | Village of Mamaroneck, City of Rye, Town of Harrison.
| Approximately 470 feet upstream of Park Drive South | +80
Blind Brook | Approximately 100 feet upstream of Oakland Beach Avenue | +13 | City of Rye, Town of Harrison, Village of Rye Brook.
| Approximately 0.4 mile upstream of Lincoln Avenue | +363
Branch Brook | Upstream side of Main Street | +282 | Village of Mount Kisco, Town of Bedford.
| Approximately 160 feet upstream of Wood Road | +405
Brentwood Brook | At the confluence with Beaver Swamp Brook | +33 | Town of Harrison, Village of Mamaroneck.
| Approximately 500 feet upstream of Sterling Road | +122
Bronx River | At the Westchester/Bronx boundary | +66 | Town of Eastchester, City of White Plains, City of Yonkers, City of Mount Vernon, Town of Greenburgh, Town of Mount Pleasant, Town of North Castle, Village of Bronxville, Village of Scarsdale, Village of Tuckahoe.
| Approximately 0.52 mile upstream of Bronx River Parkway | +208
Brown Brook | At the confluence of Muscoot Reservoir | +201 | Town of Somers.
| Approximately 0.59 mile upstream of Warren Street | +425
Byram River Reach 1 | Approximately 0.45 mile downstream of New England Highway | +12 | Village of Port Chester.
| Approximately 700 feet upstream of Hillside Avenue | +18
Caney Brook | Approximately 0.74 mile downstream of Long Hill Road | +219 | Village of Briarcliff Manor.
| Approximately 57 feet downstream of Scarborough Road | +325
Clove Brook | Upstream side of Taconic State Parkway (North Bound) | +244 | Town of Mount Pleasant.
| Approximately 0.28 mile upstream of Taconic State Parkway | +267
Croton River | Approximately 700 feet upstream of U.S. Highway 9 | +8 | Town of Ossining, Town of Cortlandt, Village of Croton-on-Hudson.
| Approximately 0.70 mile upstream of Quaker Bridge Road | +53
East Branch Blind Brook | At the confluence with Blind Brook | +35 | Village of Rye Brook.
| Approximately 250 feet upstream of Rockridge Drive | +143
East Branch Mamaroneck Branch | Approximately 65 feet downstream of Anderson Hill Road | +134 | Town of Harrison.
| Approximately 0.76 mile upstream of Old Lake Street | +252
East Branch Sheldrake River | At the confluence with Sheldrake River | +59 | Town of Mamaroneck.
| Approximately 1,420 feet upstream of Winding Brook Drive | +99
Fly Kill Brook | At the confluence with Saw Mill River | +231 | Town of Mount Pleasant.
| Approximately 130 feet downstream of Livingston Street | +248
Furnace Brook | At the upstream side of Cortlandt Road | +7 | Town of Brook Cortlandt.
| Approximately 450 feet upstream of Maple Avenue | +307
Grassy Sprain Brook | At the confluence with Bronx River | +84 | City of Yonkers.
| Approximately 0.74 mile upstream of Bronx River Parkway | +84
Hillside Avenue Brook | At the confluence with East Branch Blind Brook | +132 | Village of Rye Brook.
| Approximately 145 feet upstream of Hillandale Road | +202
Hutchinson River | Approximately 800 feet upstream of East Sanford Boulevard | +13 | Village of Scarsdale, City of Mount Vernon, City of New Rochelle, Town of Eastchester, Village of Pelham, Village of Pelham Manor.
| Approximately 0.6 mile upstream of Grand Boulevard | +226
Kensico Road Tributary | At the confluence with Nanny Hagan Brook | +250 | Town of Mount Pleasant.
| Approximately 500 feet upstream of Kensico Road | +352
Kil Brook | At the confluence with Sing Sing Creek | +186 | Village of Ossining, Town of Ossining.
| Approximately 290 feet upstream of Brookside Lane | +480
Kisco River | At the confluence with New Croton Reservoir | +205 | Town of New Castle.
| Approximately 0.3 mile upstream of Lake Road | +205
Knollwood Brook | Approximately 350 feet upstream of Woodside Avenue | +233 | Town of Greenburgh.
| Approximately 0.2 mile upstream of Knollwood Road | +270
Lecount Creek | Confluence with Lower Mamaroneck River | +31 | Town of Harrison.
| Approximately 455 feet upstream of West Street | +34
Leroy Avenue Brook | Approximately 665 feet downstream of U.S. Highway 9 | +87 | Village of Tarrytown.
| Approximately 280 feet upstream of Loh Avenue | +234
Lower Mamaroneck River | At the upstream side of East Prospect Avenue | +17 | Village of Mamaroneck, Town of Harrison.
| Approximately 800 feet upstream of Winfield Avenue | +48
Lower Pocantico River | Approximately 0.21 mile downstream of Devries Avenue | +16 | Village of Sleepy Hollow, Town of Mount Pleasant.
| Approximately 0.76 mile upstream of Gory Brook Road | +142
Mamaroneck River Upper Reach | Approximately 1,300 feet downstream of Interstate 287 On-Ramp | +143 | Town of Harrison, City of White Plains.
| Approximately 300 feet upstream of Lake Street | +179
Mianus River | Approximately 1.0 mile downstream of Millers Mill Road | +330 | Town of North Castle, Town of Bedford, Town of Pound Ridge.
| Approximately 0.5 mile downstream of Brookwood Road | +360
Mohegan Outlet | Approximately 0.47 mile downstream of Foothill Street | +195 | Town of Cortlandt, Town of Yorktown.
| Approximately 50 feet upstream of East Main Street | +451
Nanny Hagen Brook | Approximately 425 feet upstream of confluence with Saw Mill | +250 | Town of Mount Pleasant, Village of Pleasantville.
| Approximately 0.3 mile upstream of Marble Avenue | +263
Nelson Creek | At the confluence with Brentwood Brook | +65 | Town of Harrison.
| Approximately 0.6 mile upstream of Union Avenue | +125
New Croton Reservoir | Entire shoreline within community | +205 | Town of New Castle, Town of Bedford, Town of Cortlandt, Town of Somers, Town of Yorktown.
Peekskill Hollow Brook Tributary | Approximately 50 feet upstream of confluence with Peekskill Hollow Brook | +64 | Town of Cortlandt.
| Approximately 1 mile upstream of East Main Street | +313 |
Plum Brook | Approximately 35 feet downstream of Somerstown Road | +198 | Town of Somers.
| At the Westchester/Putnam County boundary | +503 |
Tributary 1 | At confluence with Plum Brook | +403 | Town of Somers.
| Approximately 190 feet upstream of Lake Shore Drive | +458 |
Saw Mill River | Approximately 430 feet downstream of New School Street | +48 | Village of Dobbs Ferry, City of Yonkers, Town of Greenburgh, Town of Mount Pleasant, Town of New Castle, Village of Ardsley, Village of Elmsford, Village of Hastings-on-Hudson, Village of Irvington, Village of Pleasantville.
| Approximately 0.35 mile upstream of Kipp Street | +399 |
Saw Mill River West Channel | At the confluence with Saw Mill River | +122 | Village of Dobbs Ferry.
| At the confluence from Saw Mill River | +127 |
Sheldrake River | At the confluence with Lower Mamaroneck River | +26 | Town of Mamaroneck, Village of Mamaroneck, Village of Scarsdale, City of New Rochelle.
| Approximately 30 feet downstream of Catherine Road | +240 |
Sing Sing Creek | At the confluence with Hudson River | +7 | Village of Ossining, Town of Ossining.
| Approximately 0.3 mile upstream of Marble Place | +186 |
South Fox Meadow Brook | Approximately 50 feet downstream of Bronx River Parkway | +157 | Village of Scarsdale.
| Approximately 0.24 mile upstream of Oxford Road | +223 |
Sunnyside Brook | Approximately 175 feet upstream of Metro North Railroad | +8 | Village of Irvington, Town of Greenburgh, Village of Tarrytown.
| Approximately 0.22 mile upstream of Sunnyside Place | +347 |
Tibbetts Brook | Approximately 0.23 mile downstream of McLean Avenue | +29 | City of Yonkers.
| Approximately 0.52 mile upstream of McLean Avenue | +37
Troublesome Brook | At the confluence with Bronx River | +104 | City of Yonkers.
| Approximately 0.23 mile upstream of Maria Lane | +169 |
Unnamed Tributary to Plum Brook | At the confluence with Plum Brook | +275 | Town of Somers.
| Approximately 430 feet upstream of Dunhill Road | +294 |
Upper Pocantico River | Approximately 530 feet downstream of Beech Hill Road | +229 | Village of Briarcliff Manor, Town of Mount Pleasant, Town of Ossining.
| Approximately 800 feet upstream of Chappaqua Road | +273 |
Wickers Creek | At the Metro North Railroad | +7 | Village of Dobbs Ferry.
| Approximately 910 feet downstream of Broadway (U.S. Route 9) | +92 |
Woodlands Road Brook 1 | At the confluence with Brentwood Brook | +69 | Town of Harrison.
| Approximately 350 feet upstream of Woodlands Road | +92
Brook 2 | At the confluence with Woodlands Road Brook 1 | +72 | Town of Harrison.
| Approximately 150 feet upstream of Woodlands Road | +92 |
# Depth in feet above ground. | * National Geodetic Vertical Datum.
+ North American Vertical Datum.
ADDRESSES
City of Mount Vernon
Maps are available for inspection at the Mount Vernon City Hall, Room 108, 1 Roosevelt Square, Mount Vernon, New York.
City of New Rochelle
Maps are available for inspection at the New Rochelle City Department of Public Works, 515 North Avenue, New Rochelle, New York.
City of Rye
Maps are available for inspection at the Rye City Engineering Department, 1051 Bost Post Road, Rye, New York.
City of White Plains
Maps are available for inspection at the White Plains City Planning Department, 255 Main Street, White Plains, New York.
City of Yonkers
Maps are available for inspection at the Yonkers City Hall, Engineering Department, Room 315, 40 South Broadway, Yonkers, New York.
Town of Bedford
Maps are available for inspection at the Bedford Town Planning Office, 425 Cherry Street, Bedford Hills, New York.
Town of Cortlandt
Maps are available for inspection at the Cortlandt Town Engineering Department, 1 Heady Street, Cortlandt, New York.
Town of Eastchester
Maps are available for inspection at the Eastchester Town Building and Planning Department, 40 Mill Road, Eastchester, New York.
Town of Greenburgh
Maps are available for inspection at the Greenburgh Town Engineering Department, 177 Hillside Avenue, Greenburgh, New York.
Town of Harrison
Maps are available for inspection at the Harrison Town Engineering Department, 1 Heineman Place, Harrison, New York.
Town of Mamaroneck
Maps are available for inspection at the Mamaroneck Village Building Department, 740 West Boston Post Road, Mamaroneck, New York.
Town of Mount Pleasant
Maps are available for inspection at the Mount Pleasant Town Construction and Zoning Office, 1 Town Hall Plaza, Valhalla, New York.
Town of New Castle
Maps are available for inspection at the New Castle Town Building Department, 200 South Greeley Avenue, Chappaqua, New York.
Town of North Castle
Maps are available for inspection at the North Castle Town Building Department, 17 Bedford Road, Armonk, New York.
Town of Ossining
Maps are available for inspection at the Ossining Town Building Department, 101 Route 9A, Ossining Town Operations Center, Ossining, New York.
Town of Pound Ridge
Maps are available for inspection at the Pound Ridge Town Building Department, Town House, 179 Westchester Avenue, Pound Ridge, New York.
Town of Scarsdale
Maps are available for inspection at the Scarsdale Building Department, 1001 Post Road, Scarsdale, New York.
Town of Somers
Maps are available for inspection at the Somers Town House Engineering Department, 335 Route 202, Somers, New York.
Town of Yorktown
Maps are available for inspection at the Yorktown Town Engineering Department, 363 Underhill Avenue, Yorktown Heights, New York.
Village of Ardsley
Maps are available for inspection at the Ardsley Village Building Department, 507 Ashford Avenue, Ardsley, New York.
Village of Briarcliff Manor
Maps are available for inspection at the Briarcliff Village Engineer's Office, 1111 Pleasantville Road, Briarcliff, New York.
Village of Bronxville
Maps are available for inspection at the Bronxville Village Engineer's Office, 200 Pondfield Road, Bronxville, New York.
Village of Croton-on-Hudson
Maps are available for inspection at the Croton-on-Hudson Village Engineering Department, 1 Van Wyck Street, Croton-on-Hudson, New York.
Village of Dobbs Ferry
Maps are available for inspection at the Dobbs Ferry Village Engineering Department, 112 Main Street, Dobbs Ferry, New York.
Village of Elmsford
Maps are available for inspection at the Elmsford Village Hall, 15 South Stone Avenue, Elmsford, New York.
Village of Hastings-on-Hudson
Maps are available for inspection at the Hastings-on-Hudson Village Building Department, 7 Maple Avenue, Hastings-on-Hudson, New York.
Village of Irvington
Maps are available for inspection at the Irvington Village Building Department, 85 Main Street, Irvington, New York.
Village of Mamaroneck
Maps are available for inspection at the Mamaroneck Village Building Department, 169 Mount Pleasant Avenue, Mamaroneck, New York.
Village of Mount Kisco
Maps are available for inspection at the Mount Kisco Village Hall, 104 Main Street, Mount Kisco, New York.
Village of Ossining
Maps are available for inspection at the Ossining Village Building Department, 101 Route 9A, Ossining Village Operations Center, Ossining, New York.
Village of Pelham
Maps are available for inspection at the Pelham Village Hall, 195 Sparks Avenue, Pelham, New York.
Village of Pelham Manor
Maps are available for inspection at the Pelham Manor Village Hall, 4 Penfield Place, Pelham Manor, New York.
Village of Pleasantville
Maps are available for inspection at the Pleasantville Village Building Department, 80 Wheeler Avenue, Pleasantville, New York.
Village of Port Chester
Maps are available for inspection at the Port Chester Village Clerk's Office, 10 Pearl Street, Port Chester, New York.
Village of Rye Brook
Maps are available for inspection at the Rye Brook Village Building Department, 938 King Street, Rye Brook, New York.
Village of Scarsdale
Maps are available for inspection at the Scarsdale Village Engineering Department, 1001 Post Road, Scarsdale, New York.
Village of Sleepy Hollow
Maps are available for inspection at the Sleepy Hollow Village Inspector's Office, 28 Beekman Avenue, Sleepy Hollow, New York.
Village of Tarrytown
Maps are available for inspection at the Tarrytown Village Building Department, 21 Wildey Street, Tarrytown, New York.
Village of Tuckahoe
Maps are available for inspection at the Tuckahoe Village Hall, 65 Main Street, Tuckahoe, New York.
Caswell County, North Carolina and Incorporated Areas
Docket Nos. FEMA-D-7630 and FEMA-D-7682
Bear Branch | At the confluence with Moon Creek | +426 | Caswell County (Unicorporated Areas).
| Approximately 2.6 miles upstream of the confluence with Moon Creek | +469
Tributary 1 | At the confluence with Bear Branch | +432 | Caswell County (Unincorporated Areas).
| Approximately 900 feet upstream of the confluence with Bear Branch | +432
| At the confluence with Bear Branch | +457 | Caswell County (Unincorporated Areas). | Tributary 2 | Approximately 0.6 mile upstream of the confluence with Bear Branch | +480
Benaja Creek | At the confluence with South Country Line Creek | +430 | Caswell County (Unincorporated Areas).
| Approximately 0.5 mile upstream of the confluence with South Country Line Creek | +437
Benton Branch | At the confluence with Stony Creek | +603 | Caswell County (Unincorporated Areas).
| Approximately 0.5 mile upstream of Senior Allred Road | +680
Tributary 1 | At the confluence with Benton Branch | +619 | Caswell County (Unincorporated Areas).
| Approximately 1.7 miles upstream of the confluence with Benton Branch | +707
Tributary 2 | At the confluence with Benton Branch | +634 | Caswell County (Unincorporated Areas).
| Approximately 1.0 mile upstream of Simmons Road | +725
Burkes Creek | At the confluence with Penson Creek | +462 | Caswell County (Unincorporated Areas).
| Approximately 150 feet upstream of Oakview Loop Road (SR 1156) | +570
Burlington Reservoir | Backwater area approximately 0.8 mile west along Caswell/Alamance County boundary from Tom's Creek Crossing County boundary | +579 | Caswell County (Unincorporated Areas).
Byrds Creek | At the confluence with South Country Line Creek | +457 | Caswell County (Unincorporated Areas).
| Approximately 2.6 miles upstream of Fitch Road (SR 1751) | +581
Cane Creek | At the confluence with Dan River | +384 | Caswell County (Unincorporated Areas).
| Approximately 250 feet upstream of Mountain Hill Road (SR 1527) | +384
Cobbs Creek | At the Caswell/Person County boundary | +422 | Caswell County (Unincorporated Areas).
| Approximately 75 feet upstream of Old Durham Road (SR 1700) | +536
Tributary 1 | At the confluence with Cobbs Creek | +436 | Caswell County (Unincorporated Areas).
| Approximately 1.5 miles upstream of the confluence with Cobbs Creek | +495
Country Line Creek | Approximately 0.6 mile downstream of Broad Street | +377 | Caswell County (Unincorporated Areas), Town of Milton, Town of Yanceyville.
| Approximately 1.4 miles upstream of Camp Springs Road (SR 1146) | +603
Tributary 1 | At the confluence with Country Line Creek | +377 | Caswell County (Unincorporated Areas), Town of Milton.
| Approximately 0.5 mile upstream of Doll Branch Road (SR 1538) | +461
Tributary 10 | At the confluence with Country Line Creek | +426 | Caswell County (Unincorporated Areas).
| Approximately 0.6 mile upstream of the confluence with Country Line Creek | +447
Tributary 11 | At the confluence with Country Line Creek | +431 | Caswell County (Unincorporated Areas).
| Approximately 2.1 miles upstream of NC Highway 62 | +504
Tributary 12 | At the confluence with Country Line Creek | +499 | Caswell County (Unincorporated Areas).
| Approximately 0.8 mile upstream of the confluence with Country Line Creek | +499
Tributary 13 | At the confluence with Country Line Creek | +499 | Caswell County (Unincorporated Areas).
| Approximately 1.8 miles upstream of the confluence with Country Line Creek | +537
Tributary 14 | At the confluence with Country Line Creek | +500 | Caswell County (Unincorporated Areas).
| Approximately 1.7 miles upstream of the confluence with Country Line Creek | +557
Tributary 15 | At the confluence with Country LIne Creek | +500 | Caswell County (Unincorporated Areas).
| Approximately 1.4 miles upstream of the confluence with Country Line Creek | +529
Tributary 16 | At the confluence with Country Line Creek | +511 | Caswell County (Unincorporated Areas).
| Approximately 2.1 miles upstream of the confluence with Country Line Creek | +586
Tributary 16A | At the confluence with Country Line Creek Tributary 16 | +518 | Caswell County (Unincorporated Areas).
| Approximately 0.7 mile upstream of the confluence with Country Line Creek Tributary 16 | +548
Tributary 17 | At the confluence with Country Line Creek | +531 | Caswell County (Unincorporated Areas).
| Approximately 0.7 mile upstream of the confluence with Country Line Creek | +559
Tributary 18 | At the confluence with Country Line Creek | +538 | Caswell County (Unincorporated Areas).
| Approximately 0.6 mile upstream of the confluence with Country Line Creek | +561
Tributary 19 | At the confluence with Country Line Creek | +542 | Caswell County (Unincorporated Areas).
| Approximately 1.1 miles upstream of the confluence with Country Line Creek | +591
Tributary 19A | At the confluence with Country Line Creek Tributary 19 | +550 | Caswell County (Unincorporated Areas).
| Approximately 1.3 miles upstream of the confluence with Country Line Creek Tributary 19 | +605
Tributary 2 | At the confluence with Country Line Creek | +377 | Caswell County (Unincorporated Areas).
| Approximately 0.5 mile upstream of the confluence with Country Line Creek | +378
Tributary 3 | At the confluence with Country Line Creek | +390 | Caswell County (Unincorporated Areas).
| Approximately 1.4 miles upstream of the confluence with Country Line Creek | +414
Tributary 4 | At the confluence with Country Line Creek | +392 | Caswell County (Unincorporated Areas).
| Approximately 1.2 miles upstream of the confluence with Country Line Creek | +409
Tributary 5 | At the confluence with Country Line Creek | +395 | Caswell County (Unincorporated Areas).
| Approximately 0.7 mile upstream of the confluence with Country Line Creek | +401
Tributary 6 | At the confluence with Country Line Creek | +407 | Caswell County (Unincorporated Areas).
| Approximately 0.5 mile upstream of the confluence with Country Line Creek | +409
Tributary 7 | At the confluence with Country Line Creek | +408 | Caswell County (Unincorporated Areas).
| Approximately 1.4 miles upstream of the confluence with Country Line Creek | +456
Tributary 8 | At the confluence with Country Line Creek | +412 | Caswell County (Unincorporated Areas).
| Approximately 0.9 mile upstream of the confluence with Country Line Creek | +432
Tributary 9 | At the confluence with Country Line Creek | +417 | Caswell County (Unincorporated Areas).
| Approximately 1.4 miles upstream of the confluence with Country Line Creek | +451
Coy Creek | At the confluence with Dan River | +388 | Caswell County (Unincorporated Areas).
| Approximately 1.1 miles upstream of the confluence with Dan River | +392
Dan River (downstream reach) | Approximately 250 feet downstream of North Broad Street (SR 57) | +378 | Caswell County (Unincorporated Areas), Town of Milton.
| Approximately 1.0 mile upstream of the confluence of Hogans Creek | +395
Dan River (near Williamson Creek) | At the NC/VA State boundary | +466 | Caswell County (Unincorporated Areas).
| At the Caswell/Rockingham County boundary | +470
Tributary 1 | At the North Carolina/Virginia State boundary | +466 | Caswell County (Unincorporated Areas).
| Approximately 1.2 miles upstream of the North Carolina/Virginia State boundary | +479
East Prong Moon Creek | At the confluence with Moon Creek | +432 | Caswell County (Unincorporated Areas).
| Approximately 2.7 miles upstream of Hodges Dairy Road | +547
Tributary 1 | At the confluence with East Prong Moon Creek | +498 | Caswell County (Unincorporated Areas).
| Approximately 400 feet upstream of James Foster Road (SR 1312) | +517
Tributary 2 | At the confluence with East Prong Moon Creek | +501 | Caswell County (Unincorporated Areas).
| Approximately 0.8 mile upstream of the confluence with East Prong Moon Creek | +528
Tributary 3 | At the confluence with East Prong Moon Creek | +503 | Caswell County (Unincorporated Areas).
| Approximately 2.4 miles upstream of the confluence with East Prong Moon Creek | +570
Glasby Branch | At the confluence with Cane Creek | +384 | Caswell County (Unincorporated Areas).
| At the Caswell County, NC/Pittsylvania County, VA State boundary | +408
Grays Branch | At the confluence with Stony Creek | +618 | Caswell County (Unincorporated Areas).
| Approximately 1.5 miles upstream of Shaw Road | +738
Tributary 1 | At the confluence with Grays Branch | +623 | Caswell County (Unincorporated Areas).
| Approximately 2.1 miles upstream of the confluence with Grays Branch | +724
Tributary 2 | At the confluence with Grays Branch | +641 | Caswell County (Unincorporated Areas).
| Approximately 2.9 miles upstream of Underwood Road | +754
Hogans Creek | At the confluence with Dan River | +393 | Caswell County (Unincorporated Areas).
| Approximately 1,000 feet upstream of the Rockingham/Caswell County boundary | +476
Tributary 1 | At the confluence with Hogans Creek | +397 | Caswell County (Unincorporated Areas).
| Approximately 120 feet downstream of NC Highway 86 | +418
Tributary 1A | At the confluence with Hogans Creek Tributary 1 | +399 | Caswell County (Unincorporated Areas).
| Approximately 740 feet upstream of the confluence with Hogans Creek Tributary 1 | +404
Tributary 2 | At the confluence with Hogans Creek | +400 | Caswell County (Unincorporated Areas).
| Approximately 0.4 mile upstream of NC Highway 86 | +417
Tributary 3 | At the confluence with Hogans Creek | +420 | Caswell County (Unincorporated Areas).
| Approximately 200 feet downstream of Chigger Ridge Road | +420
Tributary 4 | At the Rockingham/Caswell County boundary | +476 | Caswell County (Unincorporated Areas).
| Approximately 1,500 feet upstream of the Rockingham/Caswell County boundary | +479
Hostler Branch | At the confluence with Country Line Creek | +507 | Caswell County (Unincorporated Areas).
| Approximately 4.9 miles upstream of NC Highway 150 | +637
Tributary 1 | At the confluence with Hostler Branch | +531 | Caswell County (Unincorporated Areas).
| Approximately 0.7 mile upstream of the confluence with Hostler Branch | +556
Hughes Mill Creek | Approximately 0.5 mile upstream of the confluence with Jordan Creek | +610 | Caswell County (Unincorporated Areas).
| Approximately 1.2 miles upstream of North Carolina Highway 62 | +657
Hyco Creek | Approximately 1.9 miles of the confluence with Kilgore Creek (into Hyco Creek) | +413 | Caswell County (Unincorporated Areas).
| Approximately 2.0 miles upstream of Gunn Poole Road (SR 1767) | +572
Tributary 1 | At the confluence with Hyco Creek | +522 | Caswell County (Unincorporated Areas).
| Approximately 1.2 miles upstream of the confluence with Hyco Creek | +586
Hyco Lake | Entire shoreline within Caswell County | +413 | Caswell County (Unincorporated Areas).
Kilgore Creek (into Country Line Creek | At the confluence with Country Line Creek | +386 | Caswell County (Unincorporated Areas).
| Approximately 1.2 miles upstream of Jack Pointer Road (SR 1557) | +430
Kilgore Creek (into Hyco Creek) | At the confluence with Hyco Creek | +427 | Caswell County (Unincorporated Areas).
| Approximately 2.1 miles upstream of US 158 | +562
Little Wolf Island Creek | At the confluence with Wolf Island Creek | +472 | Caswell County (Unincorporated Areas).
| Approximately 0.6 mile upstream of the confluence with Wolf Island Creek | +475
Lick Fork Creek | At the confluence with Hogans Creek | +470 | Caswell County (Unincorporated Areas).
| At the Rockingham/Caswell County boundary | +470
Little Rattlesnake Creek | At the confluence with Dan River | +383 | Caswell County (Unincorporated Areas).
| Approximately 1,500 feet upstream of Old Saterfield Road (SR 1534) | +459 | Caswell County (Unincorporated Areas).
Lynch Creek | At the confluence with Hyco Creek | +477 | Caswell County (Unincorporated Areas).
| Approximately 1.5 miles upstream of Dave Smith Road (SR 1771) | +565
Tributary 1 | At the confluence with Lynch Creek | +512 | Caswell County (Unincorporated Areas).
| Approximately 2.1 miles upstream of the confluence with Lynch Creek | +606
Tributary 2 | At the confluence with Lynch Creek | +536 | Caswell County (Unincorporated Areas).
| At the Caswell/Alamance County boundary | +617
Moon Creek | At the confluence with Dan River | +391 | Caswell County (Unincorporated Areas).
| Approximately 700 feet upstream of Big Oak Farm Road (SR 1303) | +504
Tributary 1 | Approximately 1.2 miles upstream of the confluence with Moon Creek | +514 | Caswell County (Unincorporated Areas).
Tributary 2 | At the confluence with Moon Creek | +393 | Caswell County (Unincorporated Areas).
| Approximately 1,800 feet upstream of the confluence with Moon Creek | +395
Tributary 3 | At the confluence with Moon Creek | +401 | Caswell County Creek (Unincorporated Areas).
| Approximately 0.8 mile upstream of the confluence with Moon Creek | +436
Tributary 4 | At the confluence with Moon Creek | +403 | Caswell County (Unincorporated Areas).
| Approximately 1,400 feet upstream of the Confluence with Moon Creek | +408
Tributary 5 | At the confluence with Moon Creek | +414 | Caswell County (Unincorporated Areas).
| Approximately 0.6 mile upstream of the confluence with Moon Creek | +435
Tributary 6 | At the confluence with Moon Creek | +415 | Caswell County (Unincorporated Areas).
| Approximately 1,350 feet upstream of the confluence with Moon Creek | +425
Nats Fork | At the confluence with Country Line Creek | +500 | Caswell County (Unincorporated Areas).
| Approximately 0.8 mile upstream of the confluence with Country Line Creek | +503
Negro Creek | At the confluence with Hyco Creek | +489 | Caswell County (Unincorporated Areas).
| Approximately 0.8 mile upstream of the confluence of Negro Creek Tributary 2 | +617 | Caswell County (Unincorporated Areas).
Tributary 1 | At the confluence with Negro Creek | +499 | Caswell County (Unincorporated Areas).
| Approximately 1.3 miles upstream of Gunn Poole Road (SR 1767) | +635
Tributary 2 | At the Confluence With Negro Creek | +592 | Caswell County (Unincorporated Areas).
| Approximately 0.8 mile upstream of the confluence with Negro Creek | +643
North Fork Rattlesnake Creek | At the confluence with Rattlesnake Creek | +389 | Caswell County (Unincorporated Areas).
| Approximately 3.2 miles upstream of Slade Road | +543
Panthers Branch | At the confluence with Hyco Creek | +475 | Caswell County (Unincorporated Areas).
| Approximately 1.7 miles Areas) upstream of Barnwell Road (SR 1774) | +634
Tributary 1 | At the confluence with Panthers Branch | +500 | Caswell County (Unincorporated Areas).
| Approximately 2.4 miles upstream of the confluence with Panthers Branch | +620
Penson Creek | At the confluence with South Country Line Creek | +452 | Caswell County (Unincorporated Areas).
| Approximately 0.9 mile upstream of Badgett Sisters Parkway (SR 1156) | +593
Pumpkin Creek | At the North Carolina/Virginia State boundary | +443 | Caswell County (Unincorporated Areas).
| Approximately 1.3 miles upstream of the North Carolina/Virginia State boundary | +472
Rattlesnake Creek | At the confluence with Dan River | +389 | Caswell County (Unincorporated Areas).
| At the confluence of North Fork and South Fork Rattlesnake Creeks | +389
Tributary 1 | At the confluence with Rattlesnake Creek | +389 | Caswell County (Unincorporated Areas).
| Approximately 0.7 mile upstream of the confluence with Rattlesnake Creek | +396
Tributary 2 | At the confluence with Rattlesnake Creek | +389 | Caswell County (Unincorporated Areas).
| Approximately 1.9 miles upstream of the confluence with Rattlesnake Creek | +436
Tributary 2A | At the confluence with Rattlesnake Creek | +389 | Caswell County (Unincorporated Areas).
| Approximately 1.6 miles upstream of the confluence with Rattlesnake Creek Tributary 2 | +470
Reedy Fork Creek | Approximately 1.2 miles downstream on the confluence with Reedy Fork Creek Tributary 1 | +413 | Caswell County (Unincorporated Areas).
| Approximately 4.9 miles upstream of US 158 | +550
Tributary 1 | At the confluence with Reedy Fork Creek | +426 | Caswell County (Unincorporated Areas).
| Approximately 0.7 mile upstream of the confluence with Reedy Fork Creek | +451
Tributary 2 | At the confluence with Reedy Fork Creek | +437 | Caswell County (Unincorporated Areas).
| Approximately 0.7 mile upstream of the confluence with Reedy Fork Creek | +453
South Country Line Creek | At the confluence with Country Line Creek | +426 | Caswell County (Unincorporated Areas).
| Approximately 3.7 miles upstream of Rascoe Dameron Road (SR 1759) | +594
Tributary 1 | At the confluence with Country Line Creek | +446 | Caswell County (Unincorporated Areas).
| Approximately 875 feet upstream of the confluence with South Country Line Creek | +446
Tributary 2 | At the confluence with South Country Line Creek | +450 | Caswell County (Unincorporated Areas).
| Approximately 2.9 miles upstream of the confluence with South Country Line Creek | +552
Tributary 2A | At the confluence with South Country Line Creek Tributary 2 | +463 | Caswell County (Unincorporated Areas).
| Approximately 1.8 miles upstream of the confluence with South Country Line Creek Tributary 2 | +536
Tributary 2A1 | At the confluence South Country Line Creek Tributary 2A | +476 | Caswell County (Unincorporated Areas).
| Approximately 0.4 mile upstream of the confluence with South Country Line Creek Tributary 2A | +506
Tributary 3 | At the confluence with South Country Line Creek | +486 | Caswell County (Unincorporated Areas).
| Approximately 0.9 mile upstream of the confluence with South Country Line Creek | +532
Tributary 4 | At the confluence with South Country Line Creek | +518 | Caswell County (Unincorporated Areas).
| Approximately 1.4 miles upstream of the confluence with South Country Line Creek | +574
South Fork Rattlesnake Creek | At the confluence with Rattlesnake Creek | +389 | Caswell County (Unincorporated Areas), Town of Yanceyville.
| Approximately 600 feet downstream of Fire Tower Road | +536
South Hyco Creek | Approximately 1,300 feet downstream from the toe of South Hyco Dam | +445 | Caswell County (Unincorporated Areas).
| At the Caswell/Orange County boundary | +590
Tributary 2 | At the Caswell/Person boundary | +553 | Caswell County (Unincorporated Areas).
| Approximately 700 feet upstream of the Caswell/Person County boundary | +572
Stony Creek | Approximately 0.3 mile downstream of the Caswell/Alamance County boundary | +595 | Caswell County (Unincorporated Areas).
| Approximately 2.4 miles upstream of Moore Road | +712
Sugar Tree Creek | At the confluence with South Hyco Creek | +486 | Caswell County (Unincorporated Areas).
| Approximately 2.5 miles upstream of Wrenn Road | +599
Tardy Branch | At the confluence with Wolf Island Creek | +468 | Caswell County (Unincorporated Areas).
| Approximately 0.9 mile upstream of the confluence with Wolf Island Creek | +480
Toms Creek | At the Caswell/Alamance boundary | +596 | Caswell County (Unincorporated Areas).
| Approximately 0.6 mile upstream of Kerr's Chapel Road | +637
West Prong Moon Creek | At the confluence with East Prong Moon Creek | +478 | Caswell County (Unincorporated Areas).
| Approximately 250 feet upstream of Jones Road (SR 1315) | +531
Wolf Island Creek | At the confluence with Dan River | +468 | Caswell County (Unincorporated Areas).
| At the Caswell/Rockingham County boundary | +484
# Depth in feet above ground. | * National Geodetic Vertical Datum.
+ North American Vertical Datum.
ADDRESSES
Caswell County (Unincorporated Areas)
Maps available for inspection at the Caswell County Planning Department, 144 Main Street, Yanceyville, North Carolina.
Town of Milton
Maps are available for inspection at the Caswell County Planning Department, 144 Main Street, Yanceyville, North Carolina.
Town of Yanceyville
Maps are available for inspection at the City of Yanceyville Planning Office, 200 East Church Street, Yanceyville, North Carolina.
Gaston County, North Carolina and Incorporated Areas
Docket Nos.: FEMA-D-7672 and FEMA-D-7688
Abbey Creek | At the upstream side of Hazeline Avenue | +577 | Gaston County (Unincorporated Areas), City of Belmont.
| Approximately 350 feet upstream of Interstate 85 | +701
Abernathy Creek | At the confluence with Crowders Creek | +707 | Gaston County (Unincorporated Areas), City of Kings Mountain.
| Approximately 1.3 miles upstream of Interstate 85 | +805
Beaverdam Creek | Approximately 700 feet upstream of the confluence with South Fork Catawba River | +716 | Gaston County (Unincorporated Areas), City of Cherryville, City of High Shoals.
| Approximately 500 feet Shoals downstream of Dallas Cherryville Highway (State Road 279) | +834
Tributary 1 | Approximately 350 feet upstream of the confluence with Beaverdam Creek | +842 | Gaston County (Unincorporated Areas), City of Cherryville.
| Approximately 1,350 feet upstream of the confluence of Beaverdam Creek Tributary 1A | +870
Tributary 1A | At the confluence with Beaverdam Creek Tributary 1 | +857 | Gaston County (Unincorporated Areas), City of Cherryville.
| Approximately 1,590 feet upstream of the confluence with Beaverdam Creek Tributary 1 | +876
Blackwood Creek | At the confluence with Crowders Creek | +662 | Gaston County (Unincorporated Areas), City of Gastonia.
| Approximately 0.9 mile upstream of the confluence with Crowders Creek | +673
Burton Branch | Approximately 1,150 feet upstream of the confluence with Long Creek | +663 | Gaston County (Unincorporated Areas), City of Gastonia, Town of Ranlo.
| Approximately 0.4 mile upstream of Ridge Avenue | +720
Carpenters Branch | At the confluence with Little Long Creek | +735 | Gaston County (Unincorporated Areas), Town of Dallas.
| Approximately 0.9 mile upstream of the confluence with Little Long Creek | +774
Catawba Creek | Approximately 500 feet downstream of Gaston County, North Carolina/York County, South Carolina State boundary | +571 | Gaston County (Unincorporated Areas), City of Gastonia.
| Approximately 830 feet downstream of Union New Hope Road (State Road 2435) | +588
Catawba Creek Tributary | At the confluence with Catawba Creek | +571 | Gaston County (Unincorporated Areas).
| Approximately 500 feet downstream of Catawba Cove Drive (State Road 2650) | +583
Tributary 1 | At the confluence with Catawba Creek | +571 | Gaston County (Unincorporated Areas).
| Approximately 1.1 miles upstream of the confluence with Catawba Creek | +590
Tributary 2 | At the confluence with Catawba Creek | +580 | Gaston County (Unincorporated Areas).
| Approximately 60 feet upstream of Rufus Ratchford Road (State Road 2431) | +601
Tributary 3 | Approximately 400 feet upstream of the confluence with Catawba Creek | +611 | Gaston County (Unincorporated Areas).
| Approximately 130 feet downstream of Driftwood Drive (State Road 2840) | +636
Tributary 4 | Approximately 300 feet upstream of the confluence with Catawba Creek | +626 | Gaston County (Unincorporated Areas), City of Gastonia.
| Approximately 0.8 mile upstream of Woodbridge Drive | +753
Catawba River | Approximately 1.6 miles upstream of State Highway 16 | +656 | Gaston County (Unincorporated Areas), City of Mount Holly.
| At the Lincoln/Gaston County boundary | +665
Tributary 1 | Approximately 1,005 feet upstream of the confluence with Catawba River | +576 | Gaston County (Unincorporated Areas), City of Mount Holly.
| Approximately 230 feet downstream of Beatty Drive | +643
Tributary 2 | Approximately 1,300 feet upstream of the confluence with Catawba River | +576 | Gaston County (Unincorporated Areas), City of Mount Holly.
| Approximately 600 feet upstream of Missouri Lane | +585
Tributary 3 | Approximately 925 feet upstream of the confluence with Catawba River | +581 | Gaston County (Unincorporated Areas), City of Mount Holly.
| Approximately 1.1 miles upstream of the Railroad | +677
Coley Creek | Approximately 100 feet downstream of Colt Thornburg Road (State Road 1802) | +667 | Gaston County (Unincorporated Areas).
| Approximately 40 feet downstream of Cloninger Road (State Road 1805) | +673
Crowders Creek | At the confluence with South Fork Crowders Creek | +639 | Gaston County (Unincorporated Areas), City Gastonia, City of Kings Mountain.
| Approximately 1.0 mile upstream of the confluence of McGill Creek | +806
Durharts Creek Tributary 1 | Approximately 350 feet upstream of the confluence with Durharts Creek | +594 | Gaston County (Unincorporated Areas), Town of Cramerton.
| Approximately 0.7 mile Upstream of the Confluence with Durharts Creek | +636
Dutchmans Creek | Approximately 50 feet upstream of the confluence of South Stanley Creek | +597 | Gaston County (Unincorporated Areas), City of Mount Holly.
| At the confluence of Leepers Creek and Killian Creek | +624
Ferguson Branch | At the confluence with Crowders Creek | +657 | Gaston County (Unincorporated Areas).
| Approximately 1.0 mile upstream of the confluence with Ferguson Branch | +689
First Creek | Approximately 950 feet upstream of the confluence with Abernathy Creek | +771 | Gaston County (Unincorporated Areas).
| Approximately 0.6 mile upstream of the confluence with Abernathy Creek | +779
Fites Creek | Approximately 1.0 mile upstream of Perfection Avenue | +675 | Gaston County (Unincorporated Areas).
| Approximately 1.6 miles upstream of Perfection Avenue | +701
Tributary 1 | Approximately 150 feet upstream of the confluence with Fites Creek | +609 | Gaston County (Unincorporated Areas), City of Belmont, City of Mount Holly.
| Approximately 900 feet upstream of Acme Road (State Road 2032) | +694
Tributary 1A | At the confluence with Fites Creek Tributary 1 | +649 | Gaston County (Unincorporated Areas)
| Approximately 0.4 mile upstream of the confluence with Fites Creek Tributary 1 | +671 | City of Belmont, City of Mount Holly.
Gilliam Creek | Approximately 150 feet downstream of the Cleveland/Gaston County boundary | +802 | Gaston County (Unincorporated Areas), City of Cherryville.
| Approximately 1.3 miles upstream of the confluence of Gilliam Creek Tributary 2 | +856
Tributary 1 | Approximately 150 feet downstream of the confluence of Gilliam Creek Tributary 1A | +800 | Gaston County (Unincorporated Areas), City of Cherryville.
| At the downstream side of West Colonial Drive | +863
Tributary 1A | At the confluence with Gilliam Creek Tributary 1 | +801 | Gaston County (Unincorporated Areas), City of Cherryville.
| Approximately 0.4 mile upstream of the confluence with Gilliam Creek Tributary 1 | +832
Tributary 2 | At the confluence with Gilliam Creek | +810 | Gaston County (Unincorporated Areas).
| Approximately 160 feet upstream of the Cleveland/Gaston County boundary | +812
Hoyle Creek | Approximately 50 feet upstream of Old Willis School Road (State Road 1836) | +656 | Gaston County (Unincorporated Areas), City of High Shoals.
| Approximately 900 feet upstream of the confluence of Hoyle Creek Tributary 1 | +745
Indian Creek | At the Lincoln/Gaston County boundary | +781 | Gaston County (Unincorporated Areas), City of Cherryville.
| At the confluence of Lick Fork Creek | +790
Tributary 3 | At the confluence with Indian Creek | +785 | Gaston County (Unincorporated Areas), City of Cherryville.
| Approximately 0.7 mile upstream of Robert Road | +819
Johnson Creek | At the confluence with Catawba River | +660 | Gaston County (Unincorporated Areas).
| At the Lincoln/Gaston County boundary | +664
Killian Creek | At the confluence with Dutchmans Creek and Leepers Creek | +624 | Gaston County (Unincorporated Areas).
| At the Lincoln/Gaston County Boundary | +635
Leepers Creek | At the confluence with Dutchmans Creek and Killian Creek | +624 | Gaston County (Unincorporated Areas).
| At the Lincoln/Gaston County boundary | +635
Lick Fork Creek | At the confluence with Indian Creek | +790 | Gaston County (Unincorporated Areas), City of Cherryville.
| Approximately 125 feet upstream of Vernon Street | +878
Tributary 1 | At the confluence with Lick Fork Creek | +806 | Gaston County (Unincorporated Areas), City of Cherryville.
| Approximately 1.8 miles upstream of the confluence with Lick Fork Creek | +894
Little Beaverdam Creek | At the confluence with Beaverdam Creek | +764 | Gaston County (Unincorporated Areas).
| Approximately 200 feet downstream of Tryon Courthouse Road | +899
Little Hoyle Creek | At the confluence with Hoyle Creek | +666 | Gaston County (Unincorporated Areas).
| Approximately 1.1 miles upstream of Rhyne Road | +711
Little Long Creek | Approximately 460 feet downstream of the confluence of Carpenters Branch | +734 | Gaston County (Unincorporated Areas), Town of Dallas.
| Approximately 970 feet upstream of Puetts Chapel Road | +859
Long Creek | Approximately 50 feet upstream of State Highway 274/Tryon Courthouse Road | +773 | Gaston County (Unincorporated Areas), City of Bessemer City.
| Approximately 0.5 mile upstream of Sunnyside Shady Rest Road (State Road 1409) | +906
Tributary 6 | Approximately 650 feet upstream of the confluence with Long Creek | +759 | Gaston County (Unincorporated Areas).
| Approximately 50 feet downstream of Bess Town Road | +782
Tributary 6A | At the confluence with Long Creek Tributary 6 | +770 | Gaston County (Unincorporated Areas).
| Approximately 0.7 mile upstream of the confluence with Long Creek Tributary 6 | +784
Tributary 6B | At the confluence with Long Creek Tributary 6 | +773 | Gaston County (Unincorporated Areas).
| Approximately 130 feet downstream of Abel Road (State Road 1447) | +782
Lutz Branch | Approximately 1,300 feet upstream of the confluence | +685 | Gaston County (Unincorporated Areas), City of High Shoals.
| At the Lincoln/Gaston County boundary | +738
Mauney Creek | At the confluence with Hoyle Creek | +656 | Gaston County (Unincorporated Areas), Town of Stanley.
| Approximately 190 feet downstream of Mauney Road | +689
McGill Branch | At the confluence with Crowders Creek | +647 | Gaston County (Unincorporated Areas).
| Approximately 0.8 mile upstream of Lewis Road (State Road 1126) | +775
McGill Creek | At the confluence with Crowders Creek | +770 | Gaston County (Unincorporated Areas), City of Gastonia, City of Kings Mountain.
| Approximately 250 feet downstream of the Cleveland/Gaston County boundary | +878
Muddy Fork | Approximately 700 feet downstream of the Cleveland/Gaston County boundary | +823 | Gaston County (Unincorporated Areas), City of Cherryville.
| Approximately 0.6 mile upstream of the Cleveland/Gaston County boundary | +851
Tributary 5 | Approximately 140 feet downstream of Doc Wehunt Road | +818 | Gaston County (Unincorporated Areas), City of Cherryville.
| Approximately 2,680 feet upstream of Doc Wehunt Road | +843
South Fork Catawba River Tributary 1 | Approximately 0.5 mile upstream of the confluence with South Fork Catawba River | +571 | Gaston County (Unincorporated Areas).
| Approximately 1.4 miles upstream of the confluence with South Fork Catawba River | +571
Tributary 2 | Approximately 1,100 feet upstream of the confluence with South Fork Catawba River | +584 | Gaston County (Unincorporated Areas), City of Belmont, Town of McAdenville.
| Approximately 340 feet downstream of Fairway Highway | +630
South Fork Crowders Creek | At the Gaston County North Carolina/York County, South Carolina State boundary | +618 | Gaston County (Unincorporated Areas), City of Gastonia.
| Approximately 0.7 mile upstream of Lewis Road (State Route 1126) | +707
Tributary 1 | At the confluence with South Fork Crowders Creek | +619 | Gaston County (Unincorporated Areas).
| Approximately 0.5 mile upstream of the confluence with South Fork Crowders Creek | +628
Tributary 2 | At the confluence with South Fork Crowders Creek | +630 | Gaston County (Unincorporated Areas).
| Approximately 200 feet upstream of the Gaston County, North Carolina/York County, South Carolina State boundary | +633
Tributary 4 | At the confluence with South Fork Crowders Creek | +660 | Gaston County (Unincorporated Areas).
| At the Gaston County, North Carolina/York County, South Carolina State boundary | +664
Tributary 5 | At the confluence with South Fork Crowders Creek | +675 | Gaston County (Unincorporated Areas).
| Approximately 0.9 mile upstream of Sparrow Springs Road (State Road 1125) | +705
South Stanley | Approximately 180 feet upstream of the confluence with Dutchmans Creek | +597 | Gaston County (Unincorporated Areas), City of Mount Holly, Town of Stanley.
| Approximately 650 feet upstream of the confluence of South Stanley Creek Tributary 1 | +650
Tributary 1 | At the confluence with South Stanley Creek | +645 | Gaston County (Unincorporated Areas), Town of Stanley.
| Approximately 2,200 feet upstream of the Railroad | +738
Stanley Creek | At the confluence with Dutchmans Creek | +600 | Gaston County (Unincorporated Areas), City of Mount Holly Town of Stanley.
| Approximately 1.5 miles upstream of Blacksnake Road | +699
Sulphur Branch | At the upstream side of Cherry Street | +707 | Gaston County (Unincorporated Areas), City of High Shoals.
| Approximately 0.4 mile upstream of Ross Road | +816
Taylors Creek | Approximately 900 feet upstream of Woodlawn Avenue | +591 | Gaston County (Unincorporated Areas), City of Mount Holly.
| Approximately 60 feet downstream of Lamplighter Lane (State Road 2171) | +681
Tributary 1 | At the confluence with Taylors Creek | +618 | Gaston County (Unincorporated Areas).
| Approximately 0.6 mile upstream of the confluence of Taylors Creek Tributary 1A | +656
Tributary 1A | At the confluence with Taylors Creek Tributary 1 | +635 | Gaston County (Unincorporated Areas).
| Approximately 0.4 mile upstream of the confluence with Taylors Creek Tributary 1 | +653
Tributary A | At the confluence with South Fork Crowders Creek | +635 | Gaston County (Unincorporated Areas), City of Gastonia.
| Approximately 230 feet upstream of Huffman Road | +746
Tributary B | At the confluence with Tributary A | +719 | Gaston County (Unincorporated Areas), City of Gastonia.
| Approximately 0.5 mile upstream of the confluence with Tributary B-1 | +784
Tributary B-1 | At the confluence with Tributary B | +737 | Gaston County (Unincorporated Areas), City of Gastonia.
| Approximately 1,840 feet upstream of the confluence with Tributary B | +758
Tributary L-4 | Approximately 0.6 mile upstream of the confluence with Long Creek | +682 | Gaston County (Unincorporated Areas), Town of Dallas.
| Approximately 1,900 feet upstream of Old Dallas Highway | +727
Tributary L-4-2 | At the confluence with Tributary L-4 | +715 | Town of Dallas.
| Approximately 300 feet upstream of West Robinson Street | +744
Tributary R-1 | At the confluence with Crowders Creek | +665 | Gaston County (Unincorporated Areas), City of Gastonia.
| Approximately 50 feet upstream of Torrence Road | +670
Tributary R-5 | Approximately 1,050 feet upstream of the confluence with Crowders Creek | +689 | Gaston County (Unincorporated Areas), City of Bessemer City, City of Gastonia.
| Approximately 0.5 mile upstream of Oates Road | +823
Unnamed Tributary 1 to Long Creek | At the confluence with Long Creek | +774 | Gaston County (Unincorporated Areas).
| Approximately 750 feet upstream of the confluence with Long Creek | +774
Unnamed Tributary to Tributary A | At the confluence with Tributary A | +638 | Gaston County (Unincorporated Areas).
| Approximately 0.5 mile upstream of the confluence with Tributary A | +645
# Depth in feet above ground.
* National Geodetic Vertical Datum.
+ North American Vertical Datum.
ADDRESSES
City of Belmont
Maps are available for inspection at the City of Belmont Planning and Zoning Department, 37 North Main Street, Belmont, North Carolina.
City of Bessemer City
Maps are available for inspection at the City of Bessemer City Hall, 132 West Virginia Avenue, Bessemer City, North Carolina.
City of Cherryville
Maps are available for inspection at the Cherryville City Hall, 116 South Mountain Street, Cherryville, North Carolina.
City of Gastonia
Maps are available for inspection at the City of Gastonia Engineering Department, 150 South York Street, Gastonia, North Carolina.
City of High Shoals
Maps are available for inspection at the High Shoals City Hall, 101 Thompkins Street, High Shoals, North Carolina.
City of Kings Mountain
Maps are available for inspection at the Kings Mountain City Hall, 101 West Gold Street, Kings Mountain, North Carolina.
City of Lowell
Maps are available for inspection at the Lowell City Hall, 101 West First Street, Lowell, North Carolina.
City of Mount Holly
Maps are available for inspection at the Mount Holly City Hall, 131 South Main Street, Mount Holly, North Carolina.
Town of Cramerton
Maps are available for inspection at the Cramerton Town Hall, 155 North Main Street, Cramerton, North Carolina.
Town of Dallas
Maps are available for inspection at the Dallas Town Hall, 210 North Holland Street, Dallas, North Carolina.
Town of McAdenville
Maps are available for inspection at the McAdenville Town Hall, 125 Main Street, McAdenville, North Carolina.
Town of Ranlo
Maps are available for inspection at the Ranlo Town Hall, 1624 Spencer Mountain Road, Gastonia, North Carolina.
Town of Stanley
Maps are available for inspection at the Stanley Town Hall, 114 South Main Street, Stanley, North Carolina.
Gaston County (Unincorporated Areas)
Maps are available for inspection at the Gaston County Administration Office, 128 West Main Avenue, Gastonia, North Carolina.
Martin County, North Carolina and Incorporated Areas
Docket Nos.: FEMA-D-7686 and FEMA-B-7465
Bear Grass Swamp | At the confluence with Tranters Creek | +31 | Martin County (Unincorporated Areas)
| Approximately 0.5 mile upstream of Lee Road | +41
Beaverdam Creek | Approximately 200 feet downstream of Alternate U.S. Highway 64 | +42 | Martin County (Unincorporated Areas), Town of Williamston.
| Approximately 0.7 mile upstream of Alternate U.S. Highway 64 | +52
Collie Swamp | At the confluence with Tranters Creek | +34 | Martin County (Unincorporated Areas).
| Approximately 1.1 miles upstream of the confluence of Huskanaw Swamp | +47
Tributary 1 | At the confluence with Collie Swamp | +34 | Martin County (Unincorporated Areas).
| Approximately 1.5 miles upstream of the confluence with Collie Swamp | +38
Tributary 2 | At the confluence with Collie Swamp | +34 | Martin County (Unincorporated Areas).
| Approximately 0.7 mile upstream of Race Track Road | +39
Tributary 4 | At the confluence with Collie Swamp | +40 | Martin County (Unincorporated Areas).
| Approximately 1.1 miles upstream of the confluence of Collie Swamp Tributary 7 | +45
Tributary 5 | At the confluence with Collie Swamp | +41 | Martin County (Unincorporated Areas).
| Approximately 0.9 mile upstream of the confluence with Collie Swamp | +45
Tributary 6 | At the confluence with Collie Swamp | +41 | Martin County (Unincorporated Areas).
| Approximately 1.5 miles upstream of the confluence of Collie Swamp | +43
Tributary 7 | At the confluence with Collie Swamp Tributary 4 | +40 | Martin County (Unincorporated Areas).
| Approximately 0.9 mile upstream of the confluence with Collie Swamp | +47
Conoho Creek | Approximately 3.0 miles upstream of the confluence with Roanoke River | +14 | Martin County (Unincorporated Areas).
| Approximately 1.7 miles upstream of Iron Mine Springs Road | +81
Tributary 1 | At the confluence with Conoho Creek | +32 | Martin County (Unincorporated Areas), Town of Hamilton.
| Approximately 2.4 miles upstream the confluence with Conoho Creek | +58
Tributary 2 | At the confluence with Conoho Creek | +41 | Martin County (Unincorporated Areas).
| Approximately 900 feet upstream of State Route 1325 | +74
Tributary 2A | At the confluence with Conoho Creek Tributary 2 | +44 | Martin County (Unincorporated Areas).
| Approximately 250 feet upstream of Cox Road | +63
Tributary 3 | At the confluence with Conoho Creek | +43 | Martin County (Unincorporated Areas).
| Approximately 670 feet upstream of Haislip Road | +68
Crisp Creek | Approximately 2.9 miles downstream of the confluence of Crisp Creek | +59 | Martin County (Unincorporated Areas).
| Approximately 500 feet upstream of the confluence of Crisp Creek Tributary | +70
Dog Branch | At the confluence with Ready Branch | +20 | Martin County (Unincorporated Areas), Town of Williamston.
| Approximately 1,800 feet upstream of Highways 13 and 64 | +39
Etheridge Swamp | At the confluence with Conoho Creek | +51 | Martin County (Unincorporated Areas), Town of Oak City.
| Approximately 2.4 miles upstream of Edmondson Road | +82
Tributary 1 | At the confluence with Etheridge Swamp | +56 | Martin County (Unincorporated Areas).
| Approximately 0.4 mile upstream of County Line Road | +88
Tributary 2 | At the confluence with Etheridge Swamp | +57 | Martin County (Unincorporated Areas).
| Approximately 1,700 feet upstream of Edmondson Road | +69
Tributary 3 | At the confluence with Etheridge Swamp | +60 | Martin County (Unincorporated Areas).
| Approximately 0.5 mile upstream of Edmondson Road | +71
Tributary 3A | At the confluence with Etheridge Tributary 3 | +60 | Martin County (Unincorporated Areas).
| Approximately 0.5 mile upstream of Edmondson Road | +69
Flat Swamp | At the confluence with Tranters Creek | +39 | Martin County (Unincorporated Areas).
| Approximately 1,400 feet upstream of Matthew Road | +65
Tributary | At the confluence with Flat Swamp | +47 | Martin County (Unincorporated Areas), Town of Robersonville.
| Approximately 0.9 mile upstream of Vanderford Road | +65
Hardison Mill Creek | At the confluence with Sweetwater Creek | +16 | Martin County (Unincorporated Areas).
| Approximately 2.5 miles upstream of E. H. Williams Road (State Route 1538) | +41
Tributary 1 | At the confluence with Hardison Mill Creek | +21 | Martin County (Unincorporated Areas).
| Approximately 100 feet downstream of Fairview Church Road (State Route 1514) | +23
Tributary 2 | At the confluence with Hardison Mill Creek | +23 | Martin County (Unincorporated Areas).
| Approximately 1,100 feet upstream of Beasley Road | +43
Huskanaw Swamp | At the confluence with Collie Swamp | +43 | Martin County (Unincorporated Areas).
| Approximately 900 feet upstream of Perkins Road | +55
Long Creek | At the confluence with Hardison Mill Creek | +22 | Martin County (Unincorporated Areas).
| Approximately 1,400 feet upstream of Hollow Pond Road | +38
Tributary 1 | At the confluence with Long Creek | +28 | Martin County (Unincorporated Areas).
| Approximately 0.5 mile upstream of the confluence with Long Creek | +34
Peter Swamp | At the confluence with Sweetwater Creek | +11 | Martin County (Unincorporated Areas).
| Approximately 0.5 mile upstream of Railroad | +20
Tributary | At the confluence with Peter Swamp | +17 | Martin County (Unincorporated Areas).
| Approximately 1,200 feet upstream of the confluence with Peter Swamp | +22
Ready Branch | At the confluence with Sweetwater Creek | +17 | Martin County (Unincorporated Areas).
| Approximately 0.8 mile upstream of Bear Grass Road | +45
Roanoke River | At the Martin/Washington/Bertie County boundary | +7 | Martin County (Unincorporated Areas), Town of Hamilton, Town of Jamesville, Town of Williamston.
| At the Martin/Halifax/Bertie County boundary | +28
Tributary 4 | At the confluence with Roanoke River | +28 | Martin County (Unincorporated Areas).
| Approximately 1,500 feet upstream of the confluence of Roanoke River Tributary 4A | +42
Tributary 4A | At the confluence with Roanoke River Tributary 4 | +28 | Martin County (Unincorporated Areas).
| Approximately 1,800 feet upstream of the confluence with Roanoke River Tributary 4 | +50
Ross Swamp | At the confluence with Collie Swamp | +42 | Martin County (Unincorporated Areas).
| Approximately 1.3 miles upstream of Vanderford Road | +61
Skewakee Gut Canal | At the confluence with Roanoke River | +11 | Martin County (Unincorporated Areas), Town of Williamston.
| Approximately 1,300 feet upstream of West Main Street (State Route 1445) | +74
Smithwick Creek | At the confluence with Sweetwater Creek | +17 | Martin County (Unincorporated Areas).
| Approximately 4.0 miles upstream of Smithwick Creek Church Road | +43
Sweetwater Creek | At the confluence with Roanoke River | +11 | Martin County (Unincorporated Areas), Town of Williamston.
| At the confluence of Ready Branch and Smithwick Creek | +17
Tranters Creek | At the confluence of Bear Grass Swamp | +31 | Martin County (Unincorporated Areas).
| At the confluence of Flat Swamp | +39
Turkey Swamp | At the confluence of Bear Grass Swamp | +31 | Martin County (Unincorporated Areas).
| Approximately 1.0 mile upstream of Jack Robinson Road | +43
Tributary 1 | At the confluence with Turkey Swamp | +34 | Martin County (Unincorporated Areas).
| Approximately 0.7 mile upstream of the confluence with Turkey Swamp | +41
Welch Creek | At the confluence with Roanoke River | +7 | Martin County (Unincorporated Areas).
| Approximately 2.5 miles upstream of the confluence of Welch Creek Tributary 2 | +13
# Depth in feet above ground.
* National Geodetic Vertical Datum.
+ North American Vertical Datum.
ADDRESSES
Town of Hamilton
Maps are available for inspection at the Hamilton Town Office, 101 North Front Street, Hamilton, North Carolina.
Town of Jamesville
Maps are available for inspection at the Jamesville Town Hall, 1211 Water Street, Jamesville, North Carolina.
Town of Oak City
Maps are available for inspection at the Oak City Town Hall, 109 Commerce Street, Oak City, North Carolina.
Town of Robersonville
Maps are available for inspection at the Robersonville Town Hall, 114 South Main Street, Robersonville, North Carolina.
Town of Williamston
Maps are available for inspection at the Williamston Town Hall, Zoning Department, 106 East Main Street, Williamston, North Carolina.
Unincorporated Areas of Martin County
Maps are available for inspection at the Martin County Government Center, Building Inspections Department, 305 East Main Street, Williamston, North Carolina.
Washington County, North Carolina and Incorporated Areas
Docket Nos.: FEMA-D-7640 and FEMA-D-7578
Beaver Dam Branch | At the confluence with Kendrick Creek | +6 | Washington County (Unincorporated Areas), Town of Roper.
| Approximately 1.9 miles upstream of Cross Road | +10
Tributary 1 | At the confluence with Beaver Dam Branch | +6 | Washington County (Unincorporated Areas), Town of Roper.
| Approximately 0.5 mile upstream of Highway 64 | +16
Chapel Swamp | Upstream side of Loop Road/Beasley Road Crossing | +6 | Washington County (Unincorporated Areas).
| Approximately 0.7 mile upstream of Beasley Road Extension | +10
Conaby Creek | Approximately 1.4 miles upstream of Roosevelt Avenue | +24 | Washington County (Unincorporated Areas).
| Approximately 1.6 miles upstream of Roosevelt Avenue | +28
Tributary | At the upstream side of Route 32 | +25 | Washington County (Unincorporated Areas).
| Approximately 0.7 mile upstream of Askew Lane | +31
Tributary 1 | Approximately 400 feet downstream of Shelly Drive | +10 | Washington County (Unincorporated Areas), Town of Plymouth.
| Approximately 0.8 mile upstream of Roxie Reese Road | +18
Tributary 1A | Approximately 850 feet upstream of the confluence with Conaby Creek Tributary 1 | +10 | Washington County (Unincorporated Areas), Town of Plymouth.
| Approximately 1.4 miles upstream of the confluence with Conaby Creek Tributary 1 | +11
Kendricks Creek | Approximately 1.1 miles downstream of the confluence with Beaver Dam Branch | +6 | Washington County (Unincorporated Areas), Town of Roper.
| Approximately 0.6 mile upstream of West Mill Pond Road | +12
Lee's Mill Creek | Upstream side of U.S. Highway 64/NC 32 | +6 | Washington County (Unincorporated Areas).
| Approximately 0.5 mile upstream of Backwoods Road | +11
Main Canal | At the confluence with Kendricks Creek | +6 | Washington County (Unincorporated Creek Areas), Town of Roper.
| Approximately 0.8 mile upstream of Highway 64/NC 32 | +12
Pleasant Grove Creek | At the upstream side of U.S. Highway 64/NC 32 | +6 | Washington County (Unincorporated Areas).
| Approximately 1.6 miles upstream of Holly Neck Road | +10
Pungo River Canal | Approximately 2.6 miles downstream of Route 99 | +8 | Washington County (Unincorporated Areas).
| Approximately 700 feet downstream of Route 99 | +10
Tributary to Conaby Creek | Just upstream of Garrett Island Road | +14 | Washington County (Unincorporated Areas), town of Plymouth.
| Approximately 0.5 mile upstream of Garrett Island Road | +14
Welch Creek | Approximately 4.7 miles upstream of the confluence with Roanoke River | +7 | Washington County (Unincorporated Areas).
| Approximately 2.3 miles upstream of the confluence with Welch Creek Tributary 2 | +13
Tributary | At the upstream side of Long Ridge Road | +20 | Washington County (Unincorporated Areas).
| Approximately 0.4 mile upstream of Long Ridge Road | +22
Tributary 2 | At the confluence with Welch Creek | +7 | Washington County (Unincorporated Areas).
| Approximately 0.8 mile upstream of the confluence with Welch Creek | +34
# Depth in feet above ground.
* National Geodetic Vertical Datum.
+ North American Vertical Datum.
ADDRESSES
Town of Plymouth
Maps are available for inspection at the Washington County Permits, Inspections and Emergency Management Department, 205 East Main Street, Plymouth, North Carolina.
Town of Roper
Maps are available for inspection at the Roper Town Hall, 301 West Buncombe Street, Roper, North Carolina.
Unincorporated Areas of Washington County
Maps are available for inspection at the Washington County Permits, Inspections and Emergency Management Department, 205 East Main Street, Plymouth, North Carolina.
Windham County, Vermont (All Jurisdictions)
Docket Nos.: FEMA-D-7660 and FEMA-D-7688
Broad Brook | At upstream side of State Route 142 | +229 | Town of Vernon.
Connecticut River | Approximately 0.81 mile upstream of Vernon Dam | +227 | Village of Belows Falls, Town of Brattleboro, Town of Dummerston, Town of Putney, Town of Rockingham, Town of Vernon, Town of Westminister.
| Approximatey 7.42 miles upstream of Bellows Falls Dam | +305
Saxtons River | At the confluence with the Connecticut River | +257 | Town of Athens, Village of Bellows Falls, Town of Grafton, Town of Westminister.
| Approximately 1,950 feet upstream of the confluence of Weaver Brook | +590
Wardsboro Brook | Approximately 1,060 feet upstream of the upstream crossing of Vermont Route 100 | +923 | Town of Jamaica, Town of Wardsboro.
| Approximately 1,380 feet upstream of the upstream crossing of Vermont Route 100 | +927
West River | At the confluence with the Connecticut River | +232 | Town of Brattleboro, Town of Brookline, Town of Dummerston, Town of Jamaica.
| Upsteam side of Ball Mountain Dam | +1,020
Whetstone Brook | At the confluence with the Connecticut River | +231 | Town of Brattleboro.
| Approximately 240 feet upstream of Boston and Maine Railroad | +234
Williams River | Downstream side of U.S. Highway 5/Missing Link Road | +301 | Town of Rockingham.
| At the confluence with the Connecticut River | +301
# Depth in feet above ground.
* National Geodetic Vertical Datum.
+ North American Vertical Datum.
ADDRESSES
Town of Athens
Maps are available for inspection at the Athens Town Office, 25 Brookline Road, Athens, Vermont.
Village of Bellows Falls and Town of Rockingham
Maps are available for inspection at the Bellows Falls and Rockingham Village and Town Hall, 7 Square, 3rd Floor, Bellows Falls, Vermont.
Town of Brattleboro
Maps are available for inspection at the Brattleboro Planning Services Department, 230 Main Street, Suite 202, Brattleboro, Vermont.
Town of Brookline
Maps are available for inspection at the Brookline Town Office, 736 Grassy Brook Road, Brookline, Vermont.
Town of Dummerston
Maps are available for inspection at the Dummerston Town Hall, 1523 Middle Road, East Dummerston, Vermont.
Town of Grafton
Maps are available for inspection at the Grafton Town Office, 117 Main Street, Grafton, Vermont.
Town of Jamaica
Maps are available for inspection at the Jamaica Town Hall, 17 Pike Falls Road, Jamaica, Vermont.
Town of Putney
Maps are available for inspection at the Putney Town Hall, 127 Main Street, Putney, Vermont.
Town of Vernon
Maps are available for inspection at the Vernon Town Office, 567 Governor Hunt Road, Vernon, Vermont.
Town of Wardsboro
Maps are available for inspection at the Wardsboro Town Hall, 71 Main Street, Wardsboro, Vermont.
Town of Westminster
Maps are available for inspection at the Westminster Town Hall, 3651 U.S. Route 5, Westminster, Vermont.
Windsor County, Vermont
Docket Nos.: FEMA-D-7660 and FEMA-D-7688
Black River | Approximately 0.65 mile upstream of Ricks Road | +1,318 | Town of Plymouth.
| Approximately 0.88 mile upstream of Ricks Road | +1,337
Connecticut River | Approximately 1.91 miles downstream of confluence of the Black River | +305 | Town of Hartland, Town of Springfield, Town of Weathersfield
| Approximately 2.27 miles upstream of confluence of Lulls Brook | +335 | Town of Windsor.
Gulf Stream Brook | Approximately 0.98 mile upstream of confluence of North Bridgewater Brook | +873 | Town of Pomfret.
| Approximately 1.04 miles upstream of confluence of North Bridgewater Brook | +875
Mill Brook | At the confluence with the Connecticut River | +328 | Town of Reading, Town of Windsor.
| Approximately 1,500 feet upstream of Windsor Mineral Company Private Bridge | +845
North Branch Black River | Approximately 0.48 mile upstream of Markwell Road | +653 | Town of Cavendish, Town of Reading.
| Approximately 760 feet downstream of confluence of Knapp Brook | +682
Ottauquechee River | Approximately 0.94 mile upstream of Taftsville Dam | +657 | Town of Bridgewater, Town of Pomfret.
| Approximately 1,840 feet upstream of confluence of Curtis Hollow Brook | +815
Second Branch White River | Approximately 1.24 miles upstream of State Route 14 | +525 | Town of Bethel, Town of Royalton.
| Approximately 0.86 mile downstream of Stove Hill Road | +527
White River | Approximately 0.79 mile downstream of State Routes 12 and 107/River Street | +531 | Town of Bethel, Town of Stockbridge.
| Approximately 3.56 miles downstream of Liberty Hill Road | +754
# Depth in feet above ground.
* National Geodetic Vertical Datum.
+ North American Vertical Datum.
ADDRESSES
Town of Bethel
Maps available for inspection at the Bethel Town Office, 134 South Main Street, Bethel, Vermont.
Town of Bridgewater
Maps available for inspection at the Bridgewater Town Office, 7335 U.S. Route 4, Bridgewater, Vermont.
Town of Cavendish
Maps available for inspection at the Cavendish Town Office, 37 High Street, Cavendish, Vermont.
Town of Hartland
Maps available for inspection at the Town of Hartland Clerk's Office, Damon Hall, 1 Quechee Road, Hartland, Vermont.
Town of Plymouth
Maps available for inspection at the Plymouth Town Office, 68 Town Office Road, Plymouth, Vermont.
Town of Pomfret
Maps available for inspection at the Pomfret Town Office, 5188 Pomfret Road, North Pomfret, Vermont.
Town of Reading
Maps available for inspection at the Reading Town Office, Robinson Hall, 799 Vermont Route 106, Reading, Vermont.
Town of Royalton
Maps available for inspection at the Royalton Town Office, 23 Alexander Place, Suite 1, South Royalton, Vermont.
Town of Springfield
Maps available for inspection at the Springfield Town Office, 96 Main Street, Springfield, Vermont.
Town of Stockbridge
Maps available for inspection at the Town of Stockbridge Clerk's Office, 1722 Vermont Route 100, Stockbridge, Vermont.
Town of Weathersfield
Maps available for inspection at the Town of Weathersfield, Martin Memorial Hall, 5259 Route 5, Ascutney, Vermont.
Town of Windsor
Maps available for inspection at the Windsor Town Office, 29 Union Street, Windsor, Vermont.

(Catalog of Federal Domestic Assistance No. 83.100, “Flood Insurance.”)

Dated: April 10, 2007.
David I. Maurstad,
Federal Insurance Administrator of the National Flood Insurance Program, Federal Emergency Management Agency, Department of Homeland Security.

[FR Doc. 07-1978 Filed 4-23-07; 8:45 am]

BILLING CODE 9110-12-P